DEPARTMENT OF HEALTH AND HUMAN SERVICES

National Institutes of Health

Center for Scientific Review: Cancellation of Meeting

Notice is hereby given of the cancellation of the Biological Rhythms and Sleep Study Section, February 9, 2005, 9:00 a.m. to February 9, 2005, 5:00 p.m., Hyatt Regency Bethesda, One Bethesda Metro Center, 7400 Wisconsin Avenue, Bethesda, MD 20814 which was published in the Federal Register on January 18, 2005, 70 FR 2872-2875.

The meeting is cancelled due to a lack of quorum.

Dated: January 19, 2005.
LaVerne Y. Stringfield,
Director, Office of Federal Advisory Committee Policy.

[FR Doc. 05-1418 Filed 1-25-05; 8:45 am]

BILLING CODE 4140-01-M